NUCLEAR REGULATORY COMMISSION

[NRC-2014-0232]

Applicability of ASME Code Case N-770-1, as Conditioned by Federal Regulation, to Branch Connection Butt Welds

AGENCY: Nuclear Regulatory Commission.

ACTION: Regulatory issue summary; issuance.

SUMMARY: The U.S. Nuclear Regulatory Commission (NRC) is issuing Regulatory Issue Summary (RIS) 2015-10, “Applicability of ASME Code Case N-770-1, as Conditioned by Federal Regulation, to Branch Connection Butt Welds.” This RIS is intended to inform addressees about reactor coolant system Alloy 82/182 branch connection dissimilar metal nozzle welds that may be of a butt weld configuration and, therefore, require inspection under the NRC's regulations. This RIS is addressed to all holders of an operating license or construction permit for a pressurized water nuclear power reactor under applicable NRC regulations, except those who have permanently ceased operations and have certified that fuel has been permanently removed from the reactor vessel.

DATES: The RIS is available as of August 14, 2015.

ADDRESSES: Please refer to Docket ID NRC-2014-0232 when contacting the NRC about the availability of information regarding this document. You may obtain publicly-available information related to this document using any of the following methods:

• Federal Rulemaking Web site: Go to http://www.regulations.gov and search for Docket ID NRC 2014-0232. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Jay Collins, Office of Nuclear Reactor Regulation, U.S. Nuclear Regulatory Commission, Washington DC 20555-0001; telephone: 301-415-4038; email: Jay.Collins@nrc.gov.

SUPPLEMENTARY INFORMATION: The NRC published a notice of opportunity for public comment on this RIS in the Federal Register (79 FR 63446) on October 23, 2014. The public comment period was extended in the Federal Register (79 FR 70897) on November 28, 2014, to allow more time for members of the public to develop and submit their comments. The agency received comments from five commenters. The staff considered all comments, which resulted in minor clarifications to the RIS. The evaluation of these comments and the resulting changes to the RIS are discussed in a publicly-available memorandum, which is in ADAMS under Accession No. ML15068A119.

Dated at Rockville, Maryland, this 10th day of August 2015.
For the Nuclear Regulatory Commission.
Tanya Mensah,
Acting Chief, Generic Communications Branch, Division of Policy and Rulemaking, Office of Nuclear Reactor Regulation.

[FR Doc. 2015-19968 Filed 8-13-15; 8:45 am]

BILLING CODE 7590-01-P